INTERNATIONAL TRADE COMMISSION

[Investigation No. 337-TA-1027]

Certain Food Supplements and Vitamins, Including Ocular Antioxidants and Components Thereof and Products Containing the Same; Commission Determination Not To Review an Initial Determination Terminating the Investigation Based on Settlement; Termination of the Investigation

AGENCY: U.S. International Trade Commission.

ACTION: Notice.

SUMMARY: Notice is hereby given that the U.S. International Trade Commission has determined not to review the presiding administrative law judge's (“ALJ”) initial determination (“ID”) (Order No. 8) terminating the investigation based on settlement.

FOR FURTHER INFORMATION CONTACT: Amanda P. Fisherow, Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 8, 2016, based on a complaint filed by Kemin Industries, Inc. and Kemin Foods, L.C. both of Des Moines, Iowa (collectively, “complainants”). 81 FR 78634-35 (Nov. 8, 2016). The complaint alleges violations of Section 337 of the Tariff Act of 1930, as amended, 19 U.S.C. 1337, by reason of infringement of certain claims of U.S. Patent Nos. 8,815,955 and 9,226,940. The complaint further alleges the existence of a domestic industry. The notice of investigation named as respondents OmniActive Health Technologies of Mumbai, India and OmniActive Health Technologies, Inc. of Morristown, New Jersey (collectively, “respondents”). Id. at 78635. The Office of Unfair Import Investigations was not named as a party.

On December 13, 2016, complainants and respondents filed a joint motion to terminate the investigation based on settlement. The parties represent that the settlement agreement reflects the entire and only agreement between the parties regarding the subject matter of the investigation and that there are no other agreement, written or oral, express or implied between the parties concerning the subject matter of the investigation.

On December 28, 2016, the ALJ granted the joint motion to terminate the investigation based on settlement. The ALJ found that the parties' submissions, including a modified public version of the settlement agreement submitted on December 22, 2016, satisfy the Commission's rules. The ALJ found that the termination of this investigation based on settlement does not pose any public interest concerns. The ALJ also found that it is in the interest of the public and administrative economy to grant the motion.

No petitions for review of the subject ID were filed, and the Commission has determined not to review the ID. The investigation is terminated.

The authority for the Commission's determination is contained in section 337 of the Tariff Act of 1930, as amended (19 U.S.C. 1337), and in part 210 of the Commission's Rules of Practice and Procedure (19 CFR part 210).

By order of the Commission.
Issued: January 17, 2017.
Lisa R. Barton,
Secretary to the Commission.

[FR Doc. 2017-01481 Filed 1-23-17; 8:45 am]

BILLING CODE 7020-02-P